SECURITIES AND EXCHANGE COMMISSION

Sunshine Act Meeting

TIME AND DATE: Notice is hereby given, pursuant to the provisions of the Government in the Sunshine Act, Public Law 94-409, that the Securities and Exchange Commission (SEC or Commission) will host a public roundtable on Tuesday, December 16, 2025. The meeting will begin at 9 a.m. (CST) and will be open to the public. Members of the public must register by December 15, 2025. Doors will open at 8 a.m. (CST). Visitors will be subject to security checks.

PLACE: The roundtable will be held at the University of Austin's campus at the Scarbrough Building located at 522 Congress Avenue, Austin, Texas. The meeting will be webcast on the Commission's website at www.sec.gov, and a recording will be posted at a later date.

STATUS: This Sunshine Act notice is being issued because a majority of the Commission may attend the meeting.

MATTERS TO BE CONSIDERED: The SEC will host a public roundtable on Rule 611 of Regulation NMS, and other, associated rules and regulatory requirements. The roundtable is open to the public, who must register by December 15, 2025.

CONTACT PERSON FOR MORE INFORMATION: For further information, please contact Vanessa A. Countryman from the Office of the Secretary at (202) 551-5400.

Authority: 5 U.S.C. 552b.

Dated: December 9, 2025.
Stephanie J. Fouse,
Assistant Secretary.

[FR Doc. 2025-22620 Filed 12-10-25; 11:15 am]

BILLING CODE 8011-01-P